DEPARTMENT OF STATE

[Public Notice: 12772]

Report to Congress Pursuant to the National Defense Authorization Act for Fiscal Year 2013 (FY13 NDAA)

ACTION: Notice.

SUMMARY: The National Defense Authorization Act for Fiscal Year 2013 (also known as the Iran Freedom and Counter-Proliferation Act of 2012 (IFCA)), as delegated by Presidential Memorandum of June 3, 2013, requires the Secretary of State, in consultation with the Secretary of the Treasury, to submit a report to the appropriate congressional committees every 180 days that contains a determination with respect to: Whether Iran is using any of the materials described in IFCA as a medium for barter, swap, or any other exchange or transaction, or listing any of such materials as assets of the Government of Iran for purposes of the national balance sheet of Iran; which sectors of the economy of Iran are controlled directly or indirectly by Iran's Islamic Revolutionary Guard Corps (IRGC); and which of the materials described in subsection (d) are used in connection with the nuclear, military, or ballistic missile programs of Iran. Materials described are graphite, raw or semi-finished metals such as aluminum and steel, coal, and software for integrating industrial processes.

DATES: The Deputy Secretary of State approved this action on April 25, 2025.

Contact: Office of Counterproliferation Initiatives, Department of State, Telephone: (202) 647-5193 or ISN_Sanctions@state.gov.

SUPPLEMENTARY INFORMATION: For the purpose of implementing the provisions of IFCA delegated to the Secretary of State, including Sections 1245(a)(1)(B), 1245(a)(1)(C), and 1245(e), “raw or semi-finished metals” under IFCA 1245(d) includes, but is not limited to, the following materials (including all types of such materials and all alloys or compounds containing such materials): Aluminum, Americium, Antimony, Barium, Beryllium, Bismuth, Boron, Cadmium, Calcium, Cerium, Cesium, Chromium, Cobalt, Copper, Dysprosium, Erbium, Europium, Gallium, Gadolinium, Germanium, Gold, Hafnium, Hastelloy, Inconel, Indium, Iridium, Iron, Lanthanum, Lithium, Lead, Lutetium, Manganese, Magnesium, Mercury, Molybdenum, Monel, Neodymium, Neptunium, Nickel, Niobium, Osmium, Palladium, Platinum, Plutonium, Polonium, Potassium, Praseodymium, Promethium, Radium, Rhenium, Rhodium, Ruthenium, Samarium, Scandium, Silicon, Silver, Sodium, Steels, Strontium, Tantalum, Technetium, Tellurium, Terbium, Thallium, Thorium, Tin, Titanium, Tungsten, Uranium, Vanadium, Ytterbium, Yttrium, Zinc, and Zirconium.

This report pursuant to Section 1245(e) of IFCA covers the period January 1, 2021, to December 31, 2024.

Following a review of the available information, and in consultation with the Secretary of the Treasury, the Deputy Secretary of State has determined that Iran is not using the materials described in Section 1245(d) as a medium for barter, swap, or any other exchange or transaction. Following a review of the available information, and in consultation with the Secretary of the Treasury, the Deputy Secretary of State has determined that Iran is not listing any such materials as assets of the Government of Iran for purposes of the national balance sheet of Iran. Following a review of the available information, and in consultation with the Secretary of the Treasury, the Deputy Secretary of State has determined that the construction sector of Iran is controlled directly or indirectly by the IRGC.

Following a review of the available information, and in consultation with the Secretary of the Treasury, the Deputy Secretary of State has determined that the following additional types of materials described in Section 1245(d) are used in connection with the nuclear, military, or ballistic missile programs of Iran:

• Austenitic nickel-chromium alloy

• Magnesium ingots

• Sodium perchlorate

• EDM-11

• EDM-14A

• EDM-15

• Tungsten copper

• AA2024-T351 aluminum sheets and/or tubes

• ISO-68

• ISO-69

Paul S. Watzlavick,
Senior Bureau Official, International Security and Non-Proliferation Department of State.

[FR Doc. 2025-14729 Filed 8-1-25; 8:45 am]

BILLING CODE 4710-26-P